DEPARTMENT OF HOMELAND SECURITY

Coast Guard

33 CFR Part 117

[Docket No. USCG-2012-0079]

Drawbridge Operation Regulation; Trent River, New Bern, NC

AGENCY: Coast Guard, DHS.

ACTION: Notice of temporary deviation from regulations.

SUMMARY: The Commander, Fifth Coast Guard District, has issued a temporary deviation from the regulation governing the operation of the US 70 Alfred Cunningham Bridge across the Trent River, mile 0.0, at New Bern, NC. The deviation is necessary to accommodate cyclists in the “Cyclist Goin Coastal” charity event. This deviation allows the bridge to remain in the closed position for one-half hour to ensure safe passage for the cyclists.

DATES: This deviation is effective from 8 a.m. through 8:30 a.m. on May 5, 2012.

ADDRESSES: Documents mentioned in this preamble as being available in the docket are part of docket USCG-2012-0079 and are available online by going to http://www.regulations.gov, inserting USCG-2012-0079 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Lindsey Middleton, Coast Guard; telephone 757-398-6629, email Lindsey.R.Middleton@uscg.mil. If you have questions on viewing the docket, call Renee V. Wright, Program Manager, Docket Operations, telephone 202-366-9826.

SUPPLEMENTARY INFORMATION: The NC Coastal Land Trust “Cyclist Goin Coastal” Ride Committee on behalf of the North Carolina Department of Transportation has requested a temporary deviation from the current operating regulation of the US 70 Alfred Cunningham Bascule Bridge across the Trent River, mile 0.0, at New Bern, NC. The route of the cycle ride crosses the bridge and the requested deviation is to accommodate a safe and efficient passage across the bridge for the cyclists. To facilitate this event, the draw of the bridge will be maintained in the closed-to-navigation position for one-half hour; from 8 a.m. until 8:30 a.m. on Saturday, May 5, 2012.

The vertical clearance for this bridge in the closed position is 14 feet at Mean High Water and unlimited in the open position. The operating regulations are set forth in 33 CFR 117.843(a) which states that during this time period the bridge shall open on signal.

Vessels that can pass through the bridge in the closed position may do so at any time. The Coast Guard will inform the waterway users of the closure through our Local Notice to Mariners and other appropriate local media to minimize any impact caused by the temporary deviation. The bridge will be able to open for emergencies. Most vessel traffic utilizing this bridge consists of recreational boaters. This closure is for a small duration of time, therefore, only a small number of boaters may be affected by the temporary closure. There are no alternate routes to the Neuse River from the Trent River.

In accordance with 33 CFR 117.35(e), the drawbridge must return to its regular operating schedule immediately at the end of the designated time period. This deviation from the operating regulations is authorized under 33 CFR 117.35.

Dated: February 29, 2012.
Waverly W. Gregory, Jr.,
Bridge Program Manager, Fifth Coast Guard District.

[FR Doc. 2012-7128 Filed 3-26-12; 8:45 am]

BILLING CODE 9110-04-P